DEPARTMENT OF THE INTERIOR

Bureau of Indian Affairs

[212A2100DD/AAKC001030/A0A51010.999900]

Land Acquisitions; Chickasaw Nation

AGENCY: Bureau of Indian Affairs, Interior.

ACTION: Notice.

SUMMARY: The Assistant Secretary—Indian Affairs made a final agency determination to transfer 61.63 acres, more or less, of land near the City of Kingston, Marshall County, Oklahoma, (Site) into trust for the Chickasaw Nation for gaming and other purposes.

DATES: This final determination was made on October 8, 2020.

FOR FURTHER INFORMATION CONTACT: Ms. Paula L. Hart, Director, Office of Indian Gaming, Bureau of Indian Affairs, MS-3543 MIB, 1849 C Street NW, Washington, DC 20240, telephone (202) 219-4066, paula.hart@bia.gov.

SUPPLEMENTARY INFORMATION: This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

On the date listed in the DATES section of this notice, the Assistant Secretary—Indian Affairs issued a decision to accept the Site, consisting of 61.63 acres, more or less, of land in trust for the Chickasaw Nation (Nation), under the authority of the Indian Reorganization Act, 25 U.S.C. 5108. The Assistant Secretary—Indian Affairs determined that Nation's request also meets the requirements of the Indian Gaming Regulatory Act's “Oklahoma exception,” 25 U.S.C. 2719(a)(2)(A)(i), to the general prohibition contained in 25 U.S.C. 2719(a) on gaming on lands acquired in trust after October 17, 1988.

The Assistant Secretary—Indian Affairs, on behalf of the Secretary of the Interior, will immediately acquire title to the Site in the name of the United States of America in trust for the Nation upon fulfillment of Departmental requirements.

The 61.63 acres, more or less, are located near the City of Kingston, Marshall County, Oklahoma, and are described as follows:

PARCEL. “1” LEGAL DESCRIPTION: (As filed in Book 1088, Page 593 in the Office of the Marshall County Clerk)

A tract of land lying in the Northwest Quarter of Section 36, Township 6 South, Range 6 East of the Indian Base and Meridian, Marshall County, State of Oklahoma, and being more particularly described as follows:

Commencing at the Northwest Corner of the said Northwest Quarter of Section 36; Thence South 00°34′27″ East, along the West line of the said Northwest Quarter of Section 36, a distance of 331.05 feet; Thence North 89°19′00″ East, a distance of 485.71 feet to the Point of Beginning; Thence North 15°41′02″ West, a distance of 92.52 feet to a point on the Southerly Right of Way line of U.S. Highway 70 as established by the Easement for Road or Street in favor of the State of Oklahoma recorded in Book 875, Page 465, Marshall County records; Thence Easterly, along said Right of Way line, on a non-tangent curve to the left having a radius of 5859.58 feet (said curve subtended by a chord which bears North 80°35′09″ East, a distance of 71.46 feet) for an arc distance of 71.46 feet to the intersection of said line with the Southerly Right of Way line as established by the Easement for Road or Street in favor of the State of Oklahoma recorded in Book 528, Page 502, Marshall County records; Thence Easterly, along said Right of Way line as established by said Easement, the following Three (3) courses:

1. South 73°25′43″ East, a distance of 102.56 feet,

2. Easterly along a non-tangent curve to the left having a radius of 5,889.58 feet (said curve subtended by a chord which bears North 73°09′14″ East, a distance of 214.52 feet) for an arc distance of 214.53,

3. North 60°53′14″ East, a distance of 210.44 feet to the intersection of said Right of Way line established by the above referenced Easement recorded in Book 875, Page 465,

Thence South 64°07′34″ East, along said Right of Way line, a distance of 125.82 feet, to the intersection of said line and the Right of Way line established by the Partial Release of Easement recorded in Book 877, Page 663 Marshall County records; Thence North 76°23′33″ East, along said Right of Way line as established by said Partial Release, a distance of 254.55 feet to the intersection of said line and the Right of Way line established by the above referenced Easement for Road or Street in favor of the State of Oklahoma recorded in Book 875, Page 465, Marshall County records, Thence North 47°34′54″ East, along said Right of Way line a distance of 158.34 feet to a point on the North line of the said Northwest Quarter of Section 36; Thence North 89°08′09″ East, along said North line a distance of 142.31 feet more or less to the 619 foot contour line; Thence Southeasterly, along said 619 foot contour line, a distance of 1,330 feet, more or less (Tie Line-South 41°16′52″ East, 1318.44 feet); Thence South 42°39′04″ West, a distance of 787.26 feet Thence North 47°20′56″ West, a distance of 570.39 feet; Thence South 89°25′33″ West, perpendicular to the West line of said Northwest Quarter of Section 36, a distance of 1,547.00 feet to a point on the West line of said Northwest Quarter; Thence North 00°34′27″ West, along said West line, a distance of 620.00 feet· Thence North 61°47′06″ East, a distance of 201.85 feet; Thence South 62°46′50″ East, a distance of 450.90 feet· Thence North 15°41′02″ West, a distance: of 352.83 feet to the Point of Beginning. Said tract of land containing 2,177,634 square feet or 49.9916 acres more or less. SURFACE ONLY.

PARCEL “1” LEGAL DESCRIPTION: As surveyed in TRUE NORTH bearings, more particularly described as follows:

A parcel of land situated in the Northwest Quarter (NW 1/4) of Section 36, Township 6 South, Range 6 East, Indian Meridian, Marshall County, Oklahoma, as described in Book No. 1088, Page No. 593, filed October 28, 2016, in the official records of Marshall County and being more particularly described as follows:

COMMENCING at the corner of Sections 25, 26, 35 and 36, marked with a brass cap marked U.S. Army Corp of Engineers, as filed in the Oklahoma Certified Corner Records in the Oklahoma Department of Libraries;

THENCE, South 00°11′54″ West, on the section line between Sections 35 and 36, a distance of 331.05 feet;

THENCE, South 89°54′40″ East, a distance of 485.71 to a ½ inch diameter iron rod with cap marked SRB CA3949 and the POINT OF BEGINNING of the herein described parcel;

THENCE, North 14°54′45″ West, a distance of 92.52 feet to a point on the southerly right of way line of U.S. Highway No. 70, as established by the Easement for Road or Street in favor of the State of Oklahoma, described in Book No. 875, Page No. 465, in the official records of Marshall County, Oklahoma, marked with a ½ inch diameter iron rod with cap marked SRB CA3949;

THENCE, Easterly along aforesaid right-of-way line on a non-tangent curve to the left having a radius of 5,859.58 feet, (subtended by a chord which bears North 81°14′29″ East, a distance of 95.319 feet), an arc distance of 95.32 feet to the intersection of aforesaid line with the southerly right-of-way line as established by the EASEMENT FOR ROAD OR STREET in favor of the State of Oklahoma, recorded in Book 528, Page 502, in the official records of Marshall County, Oklahoma, marked with a ½ inch diameter iron rod with cap marked BENNETT LS 1471;

THENCE, Easterly along aforesaid right-of-way line as established by aforesaid easement, the following three (3) courses and distances:

1. South 72°39′22″ East, a distance of 72.72 feet to a ½ inch diameter iron rod with cap marked BENNETT LS 1471,

2. Easterly along a non-tangent curve to the left having a radius of 5,889.58 feet, (subtended by a chord which bears North 77°31′01′′ East, a distance of 216.158 feet), an arc distance of 216.17 feet to a ½ inch diameter iron rod with cap marked SRB CA3949,

3. North 61°39′34″ East, a distance of 210.44 feet to the intersection of aforesaid right-of-way line and the right-of-way line established by the above referenced easement recorded in Book 875, Page 465, in the official records of Marshall County, Oklahoma, marked with a ½ inch diameter iron rod with cap marked SRB CA3949;

THENCE, South 63°21′14″ East, along aforesaid right-of-way line, a distance of 125.82 feet to the intersection of aforesaid line and the right-of-way line established by the PARTIAL RELEASE OF EASEMENT, recorded in Book 877, Page 663, in the official records of Marshall County, Oklahoma, marked with a ½ inch diameter iron rod with cap marked SRB CA3949;

THENCE, North 77°09′53″ East, along aforesaid right-of-way line, as established by aforesaid PARTIAL RELEASE, a distance of 254.55 feet to the intersection of aforesaid line and the right-of-way line established by the above referenced EASEMENT FOR ROAD OR STREET in favor of the State of Oklahoma, recorded in Book 875, Page 465, in the official records of Marshall County, Oklahoma, marked with a ½ inch diameter iron rod with cap marked SRB CA3949;

THENCE, North 48°21′14″ East, along aforesaid right-of-way line, a distance of 152.76 feet to a point on the section line of the west ½ between Sections 25 and 36, marked with a ½ inch diameter iron rod with cap marked BENNETT LS 1471;

THENCE, South 89°57′00″ East, on the line between Sections 25 and 36, a distance of 143.86 feet, to the 619 foot Mean Sea Level contour line, marked with a ½ inch diameter iron rod with cap marked BENNETT LS 1471;

THENCE, along the meanders of the 619 foot Mean Sea Level contour line, the following five (5) courses and distances:

1. South 20°49′37″ East, a distance of 41.93 feet to a ½ inch diameter iron rod with cap marked BENNETT LS 1471,

2. South 38°36′09″ East, a distance of 242.78 feet to a l/2 inch diameter iron rod with cap marked BENNETT LS 1471,

3. South 31°40′00″ East, a distance of 204.26 feet to a ½ inch diameter iron rod with cap marked BENNETT LS 1471,

4. South 39°37′22″ East, a distance of 298.04 feet to a ½ inch diameter iron rod with cap marked BENNETT LS 1471,

5. South 46°54′25″ East, a distance of 538.74 feet to a ½ inch diameter iron rod with cap marked BENNETT LS 1471;

THENCE, South 43°25′24″ West, a distance of 784.44 feet to a ½ inch diameter iron rod with cap marked SRB CA3949;

THENCE, North 46°34′36″ West, a distance of 570.39 feet to a ½ inch diameter iron rod with cap marked SRB CA3949;

THENCE, North 89°48′06″ West, perpendicular to the north ½ of the section line between Sections 35 and 36, a distance of 1,547.00 feet to a point on the section line between Sections 35 and 36, marked with a ½ inch diameter iron rod with cap marked SRB CA3949;

THENCE, North 00°11′54″ East, on the section line between Sections 35 and 36, a distance of 620.00 feet to a ½ inch diameter iron rod with cap marked SRB CA3949;

THENCE, North 62°33′26″ East, a distance of 201.85 feet to a ⅝ inch diameter iron rod with cap marked ENTZ PLS 319;

THENCE, South 62°00′30″ East, a distance of 450.90 feet to a ⅝ inch diameter iron rod;

THENCE, North 14°54′45″ West, a distance of 352.83 feet to a ½ inch diameter iron rod with cap marked SRB CA3949 being the POINT OF BEGINNING, containing 49.92 acres of land. BASIS OF BEARINGS: All bearings were derived from Global Positioning Systems (GPS), referenced to the true meridian. Meaning and intending to convey a parcel of land according to the survey by Obert D. Bennett, RPLS No. 1471 Oklahoma, dated August 16, 2017. SURFACE ONLY.

PARCEL “2” LEGAL DESCRIPTION: (As filed in Book 1088, Page 593 in the Office of the Marshall County Clerk)

A tract of land lying in the Northeast Quarter of Section 35, Township 6 South, Range 6 East of the Indian Base and Meridian, Marshall County, Oklahoma, and being more particularly described as follows:

Commencing at the Northwest Corner of the said Northeast Quarter of Section 35; Thence South 00°40′46″ East, along the West line of said Northeast Quarter, a distance of 1,384.74 feet to the Point of Beginning; Thence North 89°09′26″ East, a distance of 850.00 feet; Thence South 00°40′46″ East, a distance of 600.00 feet; Thence South 89°09′26″ West, a distance of 850.00 feet to a point on the West line of said Northeast Quarter; Thence North 00°40′46″ West, along said West line, a distance of 600.00 feet to the Point of Beginning. Said tract of land containing 510,000 square feet or 11.7080 acres more or less. SURFACE ONLY.

PARCEL “2” LEGAL DESCRIPTION: As surveyed in TRUE NORTH bearings, more particularly described as follows:

A parcel of land situated in the North Half (N ½) of the Southwest Quarter (SW ¼) of the Northeast Quarter (NE ¼) of Section 35, Township 6 South, Range 6 East, Indian Meridian, Marshall County, Oklahoma, being that parcel of land described in Book No. 1088, Page No. 593, filed October 28, 2016, in the official records of Marshall County and being more particularly described as follows:

COMMENCING at the ¼ comer of Sections 26 and 35, marked with a 3 ½ inch diameter brass cap marked U.S. Army Corp of Engineers, as filed in the Oklahoma Certified Corner Records in the Oklahoma Department of Libraries;

THENCE, South 00°05′52″ West, on the north and south center line of Section 35, a distance of 1,384.74 feet to a ½ inch diameter iron rod with cap marked BENNETT LS 1471 and the POINT OF BEGINNING of the herein described parcel;

THENCE, North 89°56′04″ East, a distance of 850.00 feet to a ½ inch diameter iron rod with cap marked BENNETT LS 1471;

THENCE, South 00°05′52″ West, a distance of 600.00 feet to a ½ inch diameter iron rod with cap marked BENNETT LS 1471;

THENCE, South 89°56′04″ West, a distance of 850.00 feet to a point on the north and south center line of Section 35, marked with a ⅝ inch diameter iron rod with cap marked ENTZ PLS 3l9;

THENCE, North 00°05′52″ East on the north and south center line of Section 35, a distance of 600.00 feet to a ½ inch diameter iron rod with cap marked BENNETT LS 1471 being the POINT OF BEGINNING, containing 11.71 acres of land.

BASIS OF BEARINGS: All bearings were derived from Global Positioning Systems (GPS), referenced to the true meridian.

Meaning and intending to convey a parcel of land according to the survey by Obert D. Bennett, RPLS No. 1471 Oklahoma, August 16, 2017. SURFACE ONLY.

Tara Sweeney,
Assistant Secretary—Indian Affairs.

[FR Doc. 2020-22667 Filed 10-13-20; 8:45 am]

BILLING CODE 4337-15-P